PENSION BENEFIT GUARANTY CORPORATION

Submission of Information Collection for OMB Review; Comment Request; Liability for Termination of Single-Employer Plans

AGENCY: Pension Benefit Guaranty Corporation.

ACTION: Notice of request for extension of OMB approval without change.

SUMMARY: The Pension Benefit Guaranty Corporation (PBGC) is requesting that the Office of Management and Budget (“OMB”) extend approval without change, under the Paperwork Reduction Act, of a collection of information contained in its regulation on Liability for Termination of Single-Employer Plans (OMB control number 1212-0017; expires May 31, 2017). This notice informs the public of PBGC's intent and solicits public comment on the collection of information.

DATES: Comments should be submitted by June 30, 2017.

ADDRESSES: Comments should be sent to the Office of Information and Regulatory Affairs, Office of Management and Budget, Attention: Desk Officer for Pension Benefit Guaranty Corporation, via electronic mail at OIRA_DOCKET@omb.eop.gov or by fax to (202) 395-6974. A copy of the request is posted at https://www.pbgc.gov/prac/pg/other/guidance/paperwork-notices. It may also be obtained without charge by writing to the Disclosure Division of the Office of the General Counsel of PBGC at 1200 K Street NW., Washington, DC 20005, faxing a request to 202-326-4042, or calling 202-326-4040 during normal business hours. TTY and TDD users may call the Federal relay service toll-free at 1-800-877-8339 and ask to be connected to 202-326-4040. The regulation on Liability for Termination of Single-Employer Plans can be found at www.pbgc.gov.

FOR FURTHER INFORMATION CONTACT: Jo Amato Burns (burns.jo.amato@pbgc.gov), Regulatory Affairs Group, Office of the General Counsel, Pension Benefit Guaranty Corporation, 1200 K Street NW., Washington, DC 20005-4026, 202-326-4400, extension 3072, or Deborah C. Murphy (murphy.deborah@pbgc.gov), Assistant General Counsel, same address and phone number, extension 3451. TTY and TDD users may call the Federal relay service toll-free at 800-877-8339 and ask to be connected to 202-326-4400.

SUPPLEMENTARY INFORMATION: Section 4062 of the Employee Retirement Income Security Act of 1974 (“ERISA”) provides that the contributing sponsor of a single-employer pension plan and members of the sponsor's controlled group (“the employer”) incur liability (“employer liability”) if the plan terminates with assets insufficient to pay benefit liabilities under the plan. PBGC's statutory lien for employer liability and the payment terms for employer liability are affected by whether and to what extent employer liability exceeds 30 percent of the employer's net worth.

Section 4062.6 of PBGC's employer liability regulation (29 CFR 4062.6) requires a contributing sponsor, or member of the contributing sponsor's controlled group, that believes employer liability exceeds 30 percent of the collective net worth of persons subject to liability in connection with a plan termination to so notify PBGC upon plan termination and to submit net worth information. This information is necessary to enable PBGC to determine whether, and to what extent, employer liability exceeds 30 percent of the collective net worth of the employer (which includes the contributing sponsor and all and members of the sponsor's controlled group).

The collection of information under the regulation has been approved by OMB under control number 1212-0017 through May 31, 2017. PBGC is requesting that OMB extend its approval for another three years. An agency may not conduct or sponsor, and a person is not required to respond to, a collection of information unless it displays a currently valid OMB control number.

PBGC estimates that an average of thirty contributing sponsors or controlled group members per year will respond to this collection of information. PBGC further estimates that the average annual burden of this collection of information will be 12 hours and $4,440 per respondent, with an average total annual burden of 360 hours and $133,200.

Issued in Washington, DC.
Deborah Chase Murphy,
Assistant General Counsel for Regulatory Affairs, Pension Benefit Guaranty Corporation.

[FR Doc. 2017-10785 Filed 5-30-17; 8:45 am]

BILLING CODE 7709-02-P